DEPARTMENT OF COMMERCE

Foreign-Trade Zones Board

Order No. 1500

Expansion of Foreign-Trade Zone 164, Muskogee, Oklahoma

Pursuant to its authority under the Foreign-Trade Zones Act of June 18, 1934, as amended (19 U.S.C. 81a-81u), the Foreign-Trade Zones Board (the Board) adopts the following Order:

Whereas, the Muskogee City-County Port Authority, grantee of Foreign-Trade Zone 164, submitted an application to the Board for authority to expand FTZ 164-Site 1 to include two additional parcels and to expand the zone to include two additional sites in Muskogee and McAlester, Oklahoma, within and adjacent to the Tulsa Customs and Border Protection port of entry (FTZ Docket 29-2006; filed 7/12/06);

Whereas, notice inviting public comment was given in the Federal Register (71 FR 40991, 7/19/06) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 164 is approved, subject to the Act and the Board's regulations, including Section 400.28.

Signed at Washington, DC, this 12th day of February 2007.

David M. Spooner,
Assistant Secretary of Commerce for Import Administration.
Alternate Chairman Foreign-Trade Zones Board.
Attest:
Andrew McGilvray,
Executive Secretary.

[FR Doc. E7-3428 Filed 2-27-07; 8:45 am]

BILLING CODE 3510-DS-S